FEDERAL DEPOSIT INSURANCE CORPORATION

Notice of Termination of Receivership

The Federal Deposit Insurance Corporation (FDIC or Receiver), as Receiver for Guaranty National Bank of Tallahassee, Tallahassee, Florida, has been authorized to take all actions necessary to terminate the receivership of Guaranty National Bank (Receivership).

Surplus national bank receiverships must comply with 12 U.S.C. 197, which requires the Receiver to convene a shareholders' meeting.

Notice of the shareholders' meeting was given to Evergreen Bancshares, Inc., the sole shareholder of Guaranty National Bank of Tallahassee, on January 24, 2018.

The shareholder meeting was held on February 28, 2018, and at it, Evergreen Bancshares, Inc., voted to appoint itself as agent to take possession of the remaining assets of the Receivership.

All assets of the Receivership not previously disposed of have been transferred to Evergreen Bancshares, Inc., as agent appointed by the bank's shareholder pursuant to 12 U.S.C. 197.

Upon distribution of the assets of the Receivership, the Receiver was discharged from any and all liabilities to the association and to each and all creditors and shareholders thereof.

The Receiver has irrevocably authorized and appointed FDIC-Corporate as its attorney-in-fact to execute and file any and all documents that may be required to be executed by the Receiver which FDIC-Corporate, in its sole discretion, deems necessary; including but not limited to releases, discharges, satisfactions, endorsements, assignments and deeds.

Effective April 1, 2018, the Receivership has been terminated and the Receivership has ceased to exist as a legal entity.

Dated at Washington, DC, on April 9, 2018.
Federal Deposit Insurance Corporation.
Robert E. Feldman,
Executive Secretary.

[FR Doc. 2018-07634 Filed 4-12-18; 8:45 am]

BILLING CODE 6714-01-P